NATIONAL ARCHIVES AND RECORDS ADMINISTRATION

36 CFR Part 1200

RIN 3095-AB12

Official Seals

AGENCY: National Archives and Records Administration (NARA).

ACTION: Final rule.

SUMMARY: The National Archives and Records Administration (NARA) is revising its regulations on the NARA official seals. The rule adds our criteria for approving and denying requests submitted by the public and other Federal agencies to use our official seals. It also requires more detailed facts in written requests and includes NARA's conditions for use if a request is approved. This part has been rewritten in plain language format and applies to the public and other Federal agencies.

EFFECTIVE DATE: January 3, 2003.

FOR FURTHER INFORMATION CONTACT: Kim Richardson at telephone number 301-837-2902 or fax number 301-837-0319.

SUPPLEMENTARY INFORMATION: The proposed rule was published in the July 17, 2002, Federal Register (67 FR 46945) for a 60-day comment period. NARA did not receive any comments.

Information Collection Subject to the Paperwork Reduction Act

The information collection in § 1200.10, the written request, is subject to the Paperwork Reduction Act. Under this Act, no persons are required to respond to a collection of information unless it displays a valid OMB control number. The control number for this information collection is 3095-0052.

This rule is not a significant regulatory action for the purposes of Executive Order 12866 and has not been reviewed by the Office of Management and Budget. This rule is not a major rule as defined in 5 U.S.C. Chapter 8, Congressional Review of Agency Rulemaking. As required by the Regulatory Flexibility Act, I certify that this rule will not have a significant impact on a substantial number of small entities. This regulation does not have any federalism implications.

List of Subjects in 36 CFR Part 1200

Seals and insignia.

For the reasons set forth in the preamble, NARA revises part 1200 of title 36, Code of Federal Regulations, to read as follows:

PART 1200—OFFICIAL SEALS

Subpart A—General
Sec.
1200.1 Definitions.
Subpart B—How are NARA's Official Seals Designed and Used?
1200.2 How is each NARA seal designed?
1200.4 How does NARA use its official seals?
1200.6 Who is authorized to apply the official seals on documents or other materials?
Subpart C—Procedures for the Public to Request and Use NARA Seals
1200.8 How do I request to use the official seals?
1200.10 What are NARA's criteria for approval?
1200.12 How does NARA notify me of the determination?
1200.14 What are NARA's conditions for the use of the official seals?
Subpart D—Penalties for Misuse of NARA Seals
1200.16 Will I be penalized for misusing the official seals?
Authority: 18 U.S.C. 506 and 1017; 44 U.S.C. 2104(e), 2116(b), 2302.

Subpart A—General

§ 1200.1 Definitions.

The following definitions apply to this part:

Embossing seal means a display of the form and content of the official seal made on a die so that the seal can be embossed on paper or other medium.

NARA means all organizational units of the National Archives and Records Administration.

Official seal means the original(s) of the seal showing the exact form and content.

Replica or reproduction means a copy of the official seal displaying the form and content.

Subpart B—How are NARA's Official Seals Designed and Used?

§ 1200.2 How is each NARA seal designed?

NARA's three official seals are illustrated in Figures 1, 2, and 30.

A description of each seal is as follows:

(a) The National Archives and Records Administration seal. The design is illustrated below in Figure 1 and described as follows:

(1) The seal is centered on a disc with a double-line border.

(2) The words “NATIONAL ARCHIVES AND RECORDS ADMINISTRATION” encircle the inside of the seal and the date 1985 is at the bottom center.

(3) A solid line rendition of a heraldic eagle displayed holding in its left talon 13 arrows, in its right talon a branch of olive, bearing on its breast a representation of the shield of the United States.

(4) Displayed above the eagle's head is a partially unrolled scroll inscribed with the words “LITTERA SCRIPTA MANET” one above the other.

(b) National Archives seal. The design is illustrated below and described as in paragraph (a) of this section. However, the words “THE NATIONAL ARCHIVES OF THE UNITED STATES” encircle the inside of the seal and the date 1934 is at the bottom center.

(c) National Archives Trust Fund Board seal. The design is illustrated below and described as in paragraph (a) of this section. However, the words “NATIONAL ARCHIVES TRUST FUND BOARD” encircle the inside of the seal and the date 1941 is at the bottom center.

Figure 3 “ National Archives Trust Fund Board Seal

§ 1200.4 How does NARA use its official seals?

NARA uses its three official seals to authenticate various copies of documents and for informational purposes as follows:

(a) The National Archives and Records Administration seal, dated 1985, is used:

(1) For official business, e.g., stationery;

(2) To authenticate copies of Federal records in NARA's temporary custody and copies of NARA operational records; and

(3) For informational purposes with NARA's prior approval (includes use by NARA employees, the public, and other Federal agencies).

(b) The National Archives seal, dated 1934, is used to authenticate copies of documents in NARA's permanent legal custody.

(c) The National Archives Trust Fund Board seal, dated 1941, is used for Trust Fund documents and publications.

§ 1200.6 Who is authorized to apply the official seals on documents or other materials?

The Archivist of the United States (and the Archivist's designee) is the only individual authorized to apply NARA official seals, embossing seals, and replicas and reproductions of seals to appropriate documents, authentications, and other material. NARA accepts requests to use the official seals and approves or denies them based on the criteria identified in § 1200.10.

Subpart C—Procedures for the Public To Request and Use NARA Seals

§ 1200.8 How do I request to use the official seals?

You may only use the official seals if NARA approves your written request. Follow the procedures in this section to request authorization.

(a) Prepare a written request explaining, in detail:

(1) The name of the individual/organization requesting use and how it is associated with NARA;

(2) Which of the three official seals you want to use and how or on what it is going to be displayed. Provide a sample of the document or other material on which the seal is intended to appear. Mark the sample in all places where the seal would be displayed;

(3) How the intended use of the official seal is connected to your work with NARA on an event or activity (example: requesting to use the official NARA seal on a program brochure, poster, or other publicity announcing a co-sponsored symposium or conference.); and

(4) The dates of the event or activity for which you intend to display the seal.

(b) You must submit the request at least six weeks before you intend to use it to the Archivist of the United States (N), 8601 Adelphi Rd., College Park, MD 20740-6001.

(c) The OMB control number 3095-0052 has been assigned to the information collection contained in this section.

§ 1200.10 What are NARA's criteria for approval?

NARA's criteria for approval are as follows:

(a) NARA must be participating in the event or activity by providing speakers, space, or other similar services (example: NARA co-sponsoring a symposium or conference).

(b) The seal is not going to be used on any article or in any manner that reflects unfavorably on NARA or endorses, either directly or by implication, commercial products or services, or a requestor's policies or activities.

§ 1200.12 How does NARA notify me of the determination?

NARA will notify you by mail of the final decision, usually within 3 weeks from the date we receive your request. If NARA approves your request, we will send you a camera-ready copy of the official seal along with an approval letter that will:

(a) Reference back to the submitted request (either through the date or another distinguishing characteristic) indicating approval of the specific use, as defined in the request; and

(b) Include NARA's conditions for use, which are identified in § 1200.14.

§ 1200.14 What are NARA's conditions for the use of the official seals?

If your request is approved, you must follow these conditions:

(a) Use the official seal only for the specific purpose for which approval was granted;

(b) Submit additional written requests for any uses other than the use granted in the approval letter;

(c) Do not delegate the approval to another individual(s) or organization without NARA's prior approval; and

(d) Do not change the official seals themselves. They must visually and physically appear as illustrated in § 1200.2, with no alterations.

(e) Only use the official seal for the time period designated in the approval letter (example: for the duration of a conference or exhibit).

Subpart D—Penalties for Misuse of NARA Seals

§ 1200.16 Will I be penalized for misusing the official seals?

(a) If you falsely make, forge, counterfeit, mutilate, or alter official seals, replicas, reproductions or embossing seals, or knowingly use or possess with fraudulent intent any altered seal, you are subject to penalties under 18 U.S.C. 506.

(b) If you use the official seals, replicas, reproductions, or embossing seals in a manner inconsistent with the provisions of this part, you are subject to penalties under 18 U.S.C. 1017 and to other provisions of law as applicable.

Dated: November 26, 2002.
John W. Carlin,
Archivist of the United States.

[FR Doc. 02-30766 Filed 12-3-02; 8:45 am]

BILLING CODE 7515-01-P